DEPARTMENT OF ENERGY

Federal Energy Regulatory Commission

[EG14-16-000, EG14-17-000, et al.]

Notice of Effectiveness of Exempt Wholesale Generator or Foreign Utility Company Status

Fortistar North Tonawanda Inc | EG14-16-000
RE Clearwater LLC | EG14-17-000
RE Columbia Two LLC | EG14-18-000
Border Winds Energy, LLC | EG14-19-000
Pleasant Valley Wind, LLC | EG14-20-000
SG2 Imperial Valley LLC | EG14-21-000
Macho Springs Solar, LLC | EG14-22-000
Des Moulins Wind Power L.P. | FC14-11-000
Tropical BioEnergia S.A. | FC14-12-000

Take notice that during the month of February 2014, the status of the above-captioned entities as Exempt Wholesale Generators or Foreign Utility Companies became effective by operation of the Commission's regulations. 18 CFR 366.7(a).

Dated: March 24, 2014.
Kimberly D. Bose,
Secretary.

[FR Doc. 2014-07307 Filed 4-1-14; 8:45 am]

BILLING CODE 6717-01-P